DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: National Suicide Prevention Lifeline—Call Log—NEW

The Substance Abuse and Mental Health Services Administration's (SAMHSA), Center for Mental Health Services has funded a National Suicide Prevention Lifeline Network, consisting of a system of toll-free telephone numbers that route calls from anywhere in the United States to a network of local crisis centers. In turn, the local centers link callers to local emergency, mental health, and social service resources.

Through its grantee which is administering the National Suicide Prevention Lifeline Network, SAMHSA developed a Call Log in an effort to monitor basic trends in calls received. Data from this instrument will inform the Lifeline's ability to enhance network services, provide training to crisis counselors, and more effectively target its promotional efforts, thus increasing the network's accessibility to people at risk for suicidal behavior and optimizing public health efforts to prevent suicide and suicidal behavior.

All 125 networked crisis centers will be invited to complete the Call Logs, which will be available in both Web-based and hardcopy formats. For the estimated 80% of centers that already collect compatible data, an IT worker will be able to conduct monthly downloads from their own software systems. For the remaining centers, trained crisis counselors will be able to complete the majority of Call Log items during the course of the call, without asking the caller specific questions. They will use their judgment as to whether to complete the remainder of the Call Log at the conclusion of individual calls. Completing the form entails asking callers several basic questions (e.g., age, race, ethnicity, veteran status, how they heard about the Lifeline service). No identifiable information will be collected.

The estimated annual response burden ¹ to collect this information is as follows:

¹ Estimates based on 444,000 calls annually.

² 100 (80%) of the networked crisis centers currently collect this data electronically (automated crisis centers or ACCs). An IT worker would need to extract, reformat, and upload those records monthly.

³ 25 (20%) of the networked crisis centers do not currently collect this data (non-automated crisis centers or NCCs) and counselors would therefore need to ask Callers questions from the Call Log. A 30% response rate is anticipated. 444,000 total annual calls × (20% of the centers) = 88,800 annual calls answered by NCCs × (30% response rate) = 26,640 Call Logs completed by NCCs.

⁴ Estimate based on crisis centers' average staffing level of 30 counselors, 50% (15) of whom are volunteer. 25 non-automated centers × 15 volunteer counselors = 375 volunteer counselors.

⁵ Estimate assumes that incoming calls will be equally divided among volunteer and paid counselors. 26,640 calls ÷ 750 total counselors = 36 calls per counselor.

Type of respondent | Number of respondents | Responses per respondent | Total responses | Hours per response | Total hour burden per respondent | Total hour burden, all respondents
IT Worker (extract, reformat, upload; ACCs) | ² 111,100 | 12 | 1,200 | .5 | 6 | 600
Caller (question response; NCCs) | ³ 26,640 | 1 | 26,640 | .05 | .05 | 1,332
Volunteer Crisis Counselor (form completion; NCCs) | ⁴ 375 | ⁵ 36 | 13,500 | .08 | 2.9 | 1,088
Paid Staff Crisis Counselor (form completion; NCCs) | 375 | 36 | 13,500 | .08 | 2.9 | 1,088
Total | 27,490 |  | 54,840 |  |  | 4,108

Written comments and recommendations concerning the proposed information collection should be sent by May 1, 2009 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 25, 2009.
Elaine Parry,
Director, Office of Program Services.

[FR Doc. E9-7274 Filed 3-31-09; 8:45 am]

BILLING CODE 4162-20-P